DEPARTMENT OF VETERANS AFFAIRS

[OMB Control No. 2900-0335]

Agency Information Collection Activities Under OMB Review

AGENCY: Veterans Health Administration, Department of Veterans Affairs

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION CONTACT: Denise McLamb, Information Management Service (045A4), Department of Veterans Affairs, 810 Vermont Avenue, NW., Washington, DC 20420, (202) 273-8030 or FAX (202) 273-5981. Please refer to “OMB Control No. 2900-0335.”

SUPPLEMENTARY INFORMATION: Title: Dental Record Authorization and Invoice for Outpatient Services, VA Form 10-2570d.

OMB Control Number: 2900-0335.

Type of Review: Reinstatement, without change, of a previously approved collection for which approval has expired.

Abstract: VA Form 10-2570d is used to serve the following multi-purposes: (1) VA authorization to the veteran to seek a private dentist for examination; (2) Fee dentist's record of examination findings; (3) Dentist's treatment plan and listing of services needed; (4) Listing of dentist's usual and customary fees for specific services involved in treatment plan; (5) VA review, verification and authorization of treatment to the fee dentist; (6) Dentist's certification of services completed; (7) VA's permanent record of treatment provided for veterans and statement of exhaustion of benefits, if indicated; VA's approval of dental services and total fees for payment; (8) Fiscal approval and certification of payment and amount. Without this information, veterans' dental treatment needs could not be identified, fees for services could not be established, the veterans could not receive treatment, and the fee dentist could not be reimbursed.

An agency may not conduct or sponsor, and a person is not required to respond to a collection of information unless it displays a currently valid OMB control number. The Federal Register Notice with a 60-day comment period soliciting comments on this collection of information was published on December 23, 1999, at pages 72144 and 72145.

Affected Public: Business or other for Profit.

Estimated Annual Burden: 14,333 hours.

Estimated Average Burden Per Respondent: 20 minutes.

Frequency of Response: One time.

Estimated Number of Respondents: 43,000.

Send comments and recommendations concerning any aspect of the information collection to VA's OMB Desk Officer, OMB Human Resources and Housing Branch, New Executive Office Building, Room 10235, Washington, DC 20503 (202) 395-7316. Please refer to “OMB Control No. 2900-0335” in any correspondence.

Dated: November 28, 2000.
By direction of the Secretary.
Barbara H. Epps,
Management Analyst Information Management Service.

[FR Doc. 01-825 Filed 1-10-01; 8:45 am]

BILLING CODE 8320-01-P